DEPARTMENT OF ENERGY

Federal Energy Regulatory Commission

[Project No. 3777-011]

Town of Rollinsford, New Hampshire; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 3777-011.

c. Date filed: August 29, 2019.

d. Applicant: Town of Rollinsford, New Hampshire (Town).

e. Name of Project: Rollinsford Project.

f. Location: On the Salmon Falls River in Strafford County, New Hampshire and York County, Maine. No federal lands are occupied by the project works or located within the project boundary.

g. Filed Pursuant to: Federal Power Act 16 U.S.C. 791a-825r.

h. Applicant Contact: Mr. John Greenan, Green Mountain Power Corporation, 1252 Post Road, Rutland, VT 05701; Phone at (802) 770-2195, or email at John.Greenan@greenmountainpower.com.

i. FERC Contact: John Baummer, (202) 502-6837 or john.baummer@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: October 28, 2019.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-3777-011.

m. The application is not ready for environmental analysis at this time.

n. The existing Rollinsford Project consists of: (1) A 385-foot long, 19-foot-high concrete-masonry dam that includes: (i) A 255-foot-long spillway section topped with 15-inch-high flashboards, and (ii) an 82-foot-long, 52-foot-wide intake headworks section that includes five, 5.5-foot-high by 5.5-foot-wide vertical lift gates, one penstock intake protected by a 22.8-foot-wide by 15.7-foot-high trash rack structure with 2.5-inch clear bar spacing, one 8-foot-wide skimmer waste gate, and one 4-foot-wide by 4-foot-high inoperable sluice gate; (2) an 82-acre impoundment at a normal maximum elevation of 71.25 feet National Geodetic Vertical Datum of 1929 (NGVD 29), including the spillway flashboards; (3) a 600-foot-long, 10-foot diameter concrete penstock with a 250-foot-long, 9-foot diameter steel sleeve that directs flow from the intake headworks to a 40-foot-wide, 30-foot-long reinforced concrete forebay that is integral with the powerhouse; (4) a 60-foot-wide, 38-foot-long concrete and brick masonry powerhouse containing two Francis turbine-generator units for a total installed capacity of 1,500 kilowatts; (5) a 38-foot-long, 34-foot-wide tailrace channel at a normal tailwater elevation of 24 feet NGVD 29; (6) a 100-foot-long underground transmission line; and (7) appurtenant facilities.

The Town voluntarily operates the project in a run-of-river mode using an automatic pond level control system, such that outflow from the project approximates inflow. The project bypasses approximately 680 feet of the Salmon Falls River. The existing license requires the licensee to release: (1) A continuous minimum flow of 10 cubic feet per second (cfs) or inflow, whichever is less, from the dam to the bypassed reach via a 5-foot, 9-inch wide by 5-inch deep notch in the flashboards; and (2) a minimum flow of 115 cfs or inflow, whichever is less, through the powerhouse to the downstream reach. When inflow falls below the minimum hydraulic capacity of the powerhouse (80 cfs), the minimum flow requirement for the downstream reach is met by releasing flows over the dam. The average annual generation was 5,837,900 kilowatt-hours for the period of record from 2005 to 2018.

The Town proposes to: (1) Continue operating the project in a run-of-river mode; (2) release a minimum flow of 35 cfs, or inflow, whichever is less into the bypassed reach to protect and enhance aquatic habitat; (3) install and operate an upstream eel ramp; (4) implement targeted nightly shutdowns for the protection of downstream migrating eels in September and October; and (5) construct a downstream fish bypass structure to pass eels and resident fish into the bypassed reach of the project. The Town also proposes to conduct a one-season tagging study to determine whether river herring and American shad can migrate upstream through the bypassed reach to the project dam.

Green Mountain Power estimates that the proposed measures would result in an average annual generation loss of approximately 759,000 MWh and will cost $98,500 per year for operation and maintenance.

o. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Issue Deficiency Letter (if necessary)—September 2019

Request for Additional Information—October 2019

Issue Acceptance Letter—January 2020

Issue Scoping Document 1 for Comments—February 2020

Request Additional Information (if necessary)—April 2020

Issue Scoping Document 2—May 2020

Notice that Application is Ready for Environmental Analysis—May 2020

Notice of the Availability of Environmental Assessment—November 2020

Final amendments to the application must be filed with the Commission no later than 30 days from the issuance date of the notice of ready for environmental analysis.

Dated: September 12, 2019.
Kimberly D. Bose,
Secretary.

[FR Doc. 2019-20263 Filed 9-18-19; 8:45 am]

BILLING CODE 6717-01-P